DEPARTMENT OF LABOR

Employment and Training Administration

[TA-W-63,490]

Tenneco, Inc., Clevite-Pullman Division, Including On-Site Leased Workers From Elite Staffing and Time Services, Milan, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on June 24, 2008, applicable to workers of Tenneco, Inc., Clevite-Pullman Division, Milan, Ohio. The Department's Notice of determination was published in the Federal Register on July 15, 2008 (73 FR 40618).

At the request of a company official, the Department reviewed the certification for workers of the subject firm. Subject firm workers produce elastomer bushings.

New information shows that workers leased from Elite Staffing and Time Services were working on-site at the Milan, Ohio location of the subject firm. The Department has determined that these workers were sufficiently under the control of the subject firm to be considered leased workers.

Based on these findings, the Department is amending this certification to include leased workers of Elite Staffing and Time Services working on-site at the Milan, Ohio location of the subject firm.

The intent of the Department's certification is to include all workers of the subject firm who were adversely affected by a shift of production to a foreign country that is party to a free trade agreement with the United States.

The amended notice applicable to TA-W-63,490 is hereby issued as follows:

All workers of Tenneco, Inc., Clevite-Pullman Division, including on-site leased workers from Elite Staffing and Time Services, Milan, Ohio, who became totally or partially separated from employment on or after June 24, 2007, through June 24, 2010, are eligible to apply for adjustment assistance under Section 223 of the Trade Act of 1974, and are also eligible to apply for alternative trade adjustment assistance under Section 246 of the Trade Act of 1974.

Signed at Washington, DC, this 13th day of May 2009.
Richard Church,
Certifying Officer, Division of Trade Adjustment Assistance.

[FR Doc. E9-14061 Filed 6-15-09; 8:45 am]

BILLING CODE 4510-FN-P